DEPARTMENT OF COMMERCE

Office of the Secretary

Proposed Information Collection; Comment Request; Business Mission Application

AGENCY: Office of the Secretary, Office of Business Liaison.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 20, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jennifer Andberg (202-482-1360 or via internet at JAndberg@doc.gov).

SUPPLEMENTARY INFORMATION:

I. Abstract

The purpose of collecting the information requested in the Business Mission Application is to enable the Department of Commerce to ensure that companies that wish to participate in a business mission meet the standards established by the Secretary for participation and allow the Department to make the best possible selection of participants for trade missions.

Without this information, the Office of the Secretary would be unable to: (1) Determine either the number of firms or the identities of individual companies participating in its trade events; (2) account for user fees received from firms in a manner consistent with GAO accounting practices; (3) would have no written contract with firms covering their use of government services and/or facilities; (4) obtain certain certifications from companies interested in participating in DOC trade events; and (5) obtain additional information needed to judge the eligibility and suitability of companies to participate in DOC-sponsored business missions.

II. Method of Collection

The respondents can use one of the following:

(1) Electronically by completing and submitting an Internet form included on the mission-specific Web site; (2) electronically—by downloading, completing, and e-mailing—a pdf or Word form from the mission-specific website; or (3) electronically—by requesting a pdf or Word form, completing and e-mailing or faxing.

III. Data

OMB Number: 0690-0023.

Form Number:

Type of Review: Regular submission.

Affected Public: Business or other for-profit organizations; Not-for-profit institutions.

Estimated Number of Respondents: 300.

Estimated Time Per Response: 40 minutes.

Estimated Total Annual Burden Hours: 200.

Estimated Total Annual Cost to Public: $42,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2006.
Gwellnar Banks,
Management Analyst, Office of the Chief Information Officer.

[FR Doc. E6-21922 Filed 12-21-06; 8:45 am]

BILLING CODE 3510-FP-P